DEPARTMENT OF TRANSPORTATION

Federal Highway Administration

[Docket No. FHWA-2025-0037]

Notice of Intent To Prepare an Environmental Impact Statement in Virginia

AGENCY: Federal Highway Administration (FHWA), DOT.

ACTION: Notice.

SUMMARY: The FHWA, in coordination with the Virginia Department of Transportation (VDOT), is issuing this Notice of Intent (NOI) to solicit comment and advise the public, agencies, and stakeholders that an Environmental Impact Statement (EIS) will be prepared to evaluate the potential environmental impacts of the proposed transportation improvements for the Powhite Parkway Project (the Project) in western Chesterfield County, Virginia. Transportation improvements are being considered from Route 668 (Woolridge Road) to Route 360 (Hull Street Road) in western Chesterfield County, Virginia. The Project spans from Woolridge Road to Hull Street Road; the preliminary study area is bound by World War II Veterans Memorial Highway (Route 288) to the east, Hull Street Road to the south, Moseley Road to the west, and Route 60 (Midlothian Turnpike) to the north. Persons or agencies who may be affected by the proposed Project are encouraged to comment on the information in this NOI and Additional Project Information Document. All comments received in response to this NOI and Additional Project Information Document will be considered and any information presented herein, including the preliminary purpose and need, preliminary alternatives, and identified impacts, may be revised in consideration of the comments received.

DATES: Comments on this NOI and the Additional Project Information Document must be received by the FHWA at the addressed below by December 8, 2025.

ADDRESSES: This NOI and Additional Project Information Document is available in the docket referenced above at http://www.regulations.gov and on the Project website located at https://www.vdot.virginia.gov/projects/richmond-district/chesterfield---powhite-parkway-study/. The NOI and Additional Information Document also will be mailed upon request. Interested parties are invited to submit comments by any of the following methods:

Website: For access to the documents, go to the Federal eRulemaking Portal located at http://www.regulations.gov or the Project website located at https://www.vdot.virginia.gov/projects/richmond-district/chesterfield---powhite-parkway-study/. The NOI and Additional Project Information Document also will be mailed upon request. Follow the online instructions for submitting comments.

Fax: 804-775-3356.

Mailing address of hand delivery or courier: Federal Highway Administration, 400 North 8th Street, Suite 750, Richmond, Virginia, 23219.

Email address: Amanda.Heath@dot.gov.

All submissions should include the agency name and the docket number that appears in the heading of this Notice. All comments received will be posted without change to http://www.regulations.gov or the Project website, https://www.vdot.virginia.gov/projects/richmond-district/chesterfield---powhite-parkway-study/, including any personal information provided. A summary of the comments received will be included in the Draft EIS, and all comments received will be included in an appendix to the Draft EIS.

FOR FURTHER INFORMATION CONTACT: FHWA: Amanda Heath, Environmental Protection Specialist, Federal Highway Administration—Virginia Division, 400 North 8th Street, Suite 650, Richmond, VA 23219-4825; email: Amanda.Heath@dot.gov; 804-775-3342. VDOT: Heather Staton, NEPA Project Manager/Environmental Division, Virginia Department of Transportation, 1401 East Broad Street, Richmond, VA, 23219; email: heather.staton@vdot.virginia.gov; 804-980-5659. Persons interested in receiving Project information can contact PowhiteParkwayStudy@VDOT.virginia.gov to be added to the Project mailing list.

SUPPLEMENTARY INFORMATION: All public comments received in response to this notice will be considered as part of the environmental review process and potential revisions may be made to the information presented herein, as appropriate, based on the comments received. The environmental review of transportation improvement alternatives for the Project, located within western Chesterfield County, Virginia, will be conducted in accordance with the requirements of the National Environmental Policy Act (NEPA) of 1969, as amended (42 U.S.C. 4321, et seq.), 23 U.S.C. 139, FHWA regulations for implementing NEPA (23 CFR part 771), and all other applicable Federal, State, and local laws and regulations. The NEPA process is anticipated to be completed by a combined Final EIS and Record of Decision (ROD) within two years of issuance of this NOI.

The project subject to this notice is:

Project Location: The project limits include are from Route 668 (Woolridge Road) to Route 360 (Hull Street Road) in western Chesterfield County, Virginia.

The Preliminary Purpose and Need for the Proposed Agency Action:

Study Area History and Background: The study area for the Project encompasses approximately 63 square miles in western Chesterfield County (the County) and is generally bound by Route 288 to the east, Hull Street Road to the south, Moseley Road to the west, and Midlothian Turnpike to the north. The Woolridge Road Extension—a fully funded transportation project identified in the cost-constrained project list from the Richmond Regional Transportation Planning Organization's (RRTPO) Long-Range Transportation Plan, ConnectRVA 2045, Cost Constrained Projects list for implementation by FY2027—and Hull Street Road serve as the Project's logical termini.

The County is one of the largest jurisdictions in the Richmond metropolitan region and is one of the fastest growing counties in the Commonwealth of Virginia, experiencing significant growth since the 1970s. In recent decades, the County has become one of the most densely populated counties in the Richmond metropolitan region, with the per square-mile density of total population and number of housing units exceeding nearly all other counties in the region since the early 2000s. The rate of population and housing growth in the County has also outpaced even the most populated localities in the Commonwealth of Virginia in recent years. Specifically, within the study area, the rate of change in population and housing growth is higher than the County as a whole. Residential and commercial development in Chesterfield County and in the vicinity of the study area has increased significantly over the last several decades. Neighborhoods, apartments, and townhomes have been constructed throughout the western part of the County, with commercial areas developing along Hull Street Road and future travel demand is expected to increase in the study area.

Relieve Congestion: Within the study area, existing traffic congestion results in decreased travel speeds and impedes reliable vehicular travel. Currently, nearly 25 percent of the roadway segments evaluated within the study area operate below 75 percent of posted speed limit and nearly 50 percent of the intersections in the study area experience moderate/severe congestion. Public input supports this data; during the December 2023-January 2024 public comment period, 25 percent identified traffic needs in the study area and many of those specifically cited capacity and congestion issues on Hull Street Road, Woolridge Road, and other study area roadways.

As future development and population numbers continues to increase, roadways in the study area are anticipated to see correlating demand for travel. Consequently, overall congestion and intersection delays are expected to also increase by the design year of 2052.

Improve Regional Connectivity and Accessibility: Within the study area, there are few free-flowing options for through traffic. Existing Route 76 (Powhite Parkway) and Route 288 are the only two roads in the study area that qualify as other freeways and expressways and current traffic data shows that even these roads experience moderate to severe congestions at peak travel periods. Principal arterials serve substantial corridor movements and serve demand between major activity centers. Hull Street Road is the only principal arterial within the study area. Hull Street Road is a six- to eight-lane road. Free-flowing traffic is often impeded by traffic lights and intersections.

Existing Powhite Parkway, Route 288, and Hull Street Road are located along the northeast, east, and southern edges of the study area; therefore, most of the movement throughout the study area happens on minor arterials/major collectors (local roadways), which are roads with low posted speeds, residential access points (i.e., neighborhood entrances and driveways), and signalized and unsignalized intersections; for these reasons, these road types are not intended to facilitate heavy through-traffic volumes. Today, many of these minor arterials and major collectors, such as Watermill Parkway/Woolridge Road, Otterdale Road, and Genito Road experience high levels of congestion and delays especially in the morning and evening peak hours. Additionally, future travel demand is expected to increase in the study area. Based on socioeconomic data developed in coordination amongst Chesterfield County and VDOT to support travel demand forecasting for the Powhite Parkway Project, population and employment within the study area are anticipated to increase by 90 percent and 160 percent, respectively, between 2023 and 2052.

Preliminary Purpose and Need: The purpose of the Project is to enhance transportation conditions from Hull Street Road to Woolridge Road in western Chesterfield County, Virginia. In order to meet the purpose, the Project must address the following needs:

1. Relieve congestion on existing roadways and at intersections within the Project study area; and

2. Improve regional connectivity and accessibility between Hull Street Road and Woolridge Road.

Agency Coordination for the Preliminary Purpose and Need: The preliminary purpose and need and associated (or related) information contained in the Additional Project Information Document have been discussed with Cooperating and Participating agencies. The preliminary purpose and need was developed with agency coordination and public input, as described in Section (e) of this NOI and detailed in the Additional Project Information Document. The United States Army Corps of Engineers (USACE) and the United States Environmental Protection Agency (EPA) provided preliminary concurrence on the purpose and need on September 11, 2024. The preliminary purpose and need may be revised based on comments received during the comment period on this notice.

VDOT will formally reconfirm concurrence on the purpose and need for the Project following the 30-day public comment period on the NOI. The purpose and need statement and supporting documentation, including data and public input summary, will be available in the Draft EIS.

A Preliminary Description of the Proposed Action and Potential Alternatives the Environmental Impact Statement Will Consider: The proposed action includes a preliminary range of transportation improvement alternatives in the study area between Hull Street Road and Woolridge Road, in western Chesterfield County, Virginia, which serves as the logical termini for the Project. Agencies and the public are invited to comment on the preliminary range of alternatives for the Project. Detailed information on the preliminary range of alternatives is in the Additional Project Information Document. The preliminary range of alternatives, including information contained in the Additional Project Information Document, have been discussed with Cooperating and Participating agencies. The alternatives to be retained and advanced for full analysis in the EIS will be finalized after the consideration of comments received during the comment period on the NOI, in coordination with agencies and the public, and they will be analyzed and documented in the Draft EIS.

This section of the NOI discusses the alternatives that were carried forward for analysis in the EIS as part of the preliminary range of alternatives. The Additional Project Information Document contains information on the following: (1) the conceptual alignments and improvements considered in the development of the preliminary range of alternatives, (2) conceptual alignments and improvements not carried forward as stand-alone alternatives in the preliminary range of alternatives, (3) the preliminary range of alternatives retained for evaluation, and (4) the refinement of the preliminary range of alternatives retained for evaluation and anticipated to be advanced for full analysis in the EIS.

Preliminary Range of Alternatives: The preliminary range of alternatives for the Powhite Parkway Project is listed below. USACE and EPA provided preliminary concurrence on the range of alternatives on December 11, 2024. VDOT and FHWA will evaluate and assess these alternatives to verify that they represent a reasonable range of alternatives that are technically and economically feasible to advance for full analysis in the EIS.

No Build

The No-Build Alternative will be retained for detailed study and will serve as a benchmark for comparison with the alternatives retained for detailed evaluation. The No-Build Alternative would maintain existing roadways in their current configuration and would include planned, programmed, and reasonably foreseeable roadway improvements expected to occur in the absence of the proposed action. The No-Build Alternative includes all transportation improvements that have been planned or programmed in the Richmond Regional Transportation Planning Organization's (RRTPO) Long-Range Transportation Plan, Connect2045. The No-Build Alternative also includes locally planned transportation improvements, expected to be implemented by the horizon year of 2052, which have been identified in coordination with Chesterfield County. Any potential effects to social, economic, cultural, or natural resources, resulting from transportation improvements planned for implementation under the No-Build Alternative, would be addressed by the respective project sponsors. A summary of the planned, programmed, and reasonably foreseeable projects, assumed for the purposes of the EIS as part of the No-Build Alternative, is included in the Additional Project Information Document that accompanies this NOI.

Alternative 1A/New Alignment

This alternative would include approximately eight miles of four-lane roadway (two lanes in each direction) on new location extending from Woolridge Road to Hull Street Road, primarily aligned with existing available right-of-way owned by Chesterfield County. The alternative would extend west from Woolridge Road for approximately 2.8 miles and turn southwest, crossing Genito Road approximately 1.1 miles west of the Otterdale Road/Genito Road intersection. The alternative would primarily follow existing available right-of-way west of the Summerlake subdivision until its intersection with Hull Street Road. Access to existing roadways would be provided from the new roadway at key intersections and the new roadway would be grade separated where access to existing roadways is not provided, to maintain existing traffic movements.

Alternative 1B/New Alignment

This alternative would include approximately eight and ½ miles of four-lane roadway (two lanes in each direction) on new location extending from Woolridge Road to Hull Street Road. The alternative would extend west from Woolridge Road for approximately 3.3 miles and turn southwest, crossing Genito Road approximately 1.7 miles west of the Otterdale Road/Genito Road intersection. Alternative 1B would be adjacent to and just east of Mt. Hermon Road, which provides access the Clover Hill Athletic Complex. Approximately 1.2 miles south of Genito Road, this alternative would begin to primarily follow existing available right-of-way until its intersection with Hull Street Road. Access to exiting roadways would be provided from the new alignment at key intersections, and the new roadway would be grade separated where access to existing roadways is not provided, to maintain existing traffic movements.

Alternative 2B/Otterdale Road, Duval Road, New Alignment

Anticipated improvements associated with this alternative would include a new 0.5-mile roadway segment to connect Otterdale Road to Woolridge Road. From the new connection south, existing Otterdale Road and Duval would be upgraded to add one travel lane in both directions, paved shoulders, turn lanes, and a separated median. This alternative would also include a new four-lane, 2.4-mile roadway would connect Duval Road to Hull Street Road. Conceptual improvements along this alternative would also include upgrades to signalized and unsignalized intersections.

Alternative 3B/Woolridge Road, New Alignment

This alternative would add one travel lane in each direction along existing Woolridge Road. A new four-lane, 1.7-mile roadway would connect Woolridge Road to Hull Street Road. Conceptual improvements along this alternative would also include upgrades to signalized and unsignalized intersections.

Alternative 4/Route 288, Hull Street Road

This alterative would incorporate the planned Powhite Parkway Phase I Extension. From its interchange with Powhite Parkway, Route 288 would be upgraded to add an additional travel lane in both directions. Improvements along Hull Street Road would include adding an additional travel lane in both directions, access control measures, and upgrades to signalized and unsignalized intersections, such as the existing intersection of Hull Street Road at Old Hundred Road/Commonwealth Centre Parkway. Potential upgrades to the Route 288 interchange with Hull Street Road and the interchange with existing Powhite Parkway are also anticipated.

Brief Summary of Expected Effects: The EIS will evaluate the potential social, economic, and environmental effects resulting from the implementation of the alternatives. FHWA and VDOT will seek input from the public and agencies during the EIS development process regarding the effects of the Project. FHWA and VDOT will evaluate effects to environmental and community resources in accordance with their NEPA guidance and procedures. The following resources are anticipated to be the most sensitive resources in the Project study area and will be evaluated closely by FHWA and VDOT. Additional considerations of these resources are included in the Additional Project Information Document.

• Wetlands and Waters of the U.S.

• Section 4(f) public park properties

• Land Use and Right of Way (Private Property)

• Section 7 threatened and endangered species

The EIS will evaluate the anticipated impacts and benefits, including reasonably foreseeable impacts, to the resources listed above, as well as the following resources: farmland, social and community resources, economics, air quality, transportation, ecosystem resources (wildlife and threatened and endangered species), cultural resources, hazardous waste sites, and visual resources. The level of environmental review of the identified resources for the EIS will be commensurate with the anticipated effects to each resource from the proposed Project and will be governed by the statutory or regulatory requirements protecting those resources.

The analyses and evaluations conducted for the EIS will identify the potential for effects; avoidance measures; whether the anticipated effects would be adverse; and the appropriate environmental mitigation measures. Additional information on the expected impacts is provided in the Additional Project Information Document available for review in the docket established for this Project and on the Project website as noted in the ADDRESSES section. Comments on the expected impacts to be analyzed in the Draft EIS are welcomed during the NOI comment period.

Agencies, stakeholders, and the public are invited to comment on the expected impacts. The environmental impact analysis will not begin until the purpose and need, range of alternatives, and impact categories are finalized based on public comment on this notice. The identification of impacts may be revised due to the consideration of public comments. See the Additional Project Information Document for a more detailed description of the Summary of Expected Impacts. The studies to identify the impacts, as well as the analyses of impacts from the retained alternatives, will be presented in the Draft EIS.

Anticipated Permits and Other Authorizations: A Clean Water Act Section 404 permit decision from the USACE is anticipated in September 2027. Other likely Federal and State authorizations include the Virginia Marine Resources Commission (VMRC) Subaqueous Bottoms and Tidal Wetlands Permit in June 2027, a Virginia Department of Environmental Quality (VDEQ) Individual Permit in August 2027, and anticipated US Coast Guard bridge permit exception approval prior to September 2027.

Per U.S.C. 139(d)(10), the aforementioned permits and authorizations should be completed by no later than 90 days after the issuance of the ROD. The Project sponsor, the Chesterfield County, has committed to obtaining permits within 90 days of the issuance of the ROD and understands that issuance of the ROD may be delayed if permits are not on schedule to be obtained within 90 days.

Section 7 consultation under the Endangered Species Act is expected to be concluded in February 2027. Section 106 consultation under the National Historic Preservation Act is anticipated to be concluded under a Memorandum of Agreement, which will be executed by April 2026 and completed by December 2026. See the Additional Project Information Document for more detail on the anticipated permits and other authorizations.

A Schedule for the Decision Making Process: The Project schedule follows the requirements of the environmental review process under 23 U.S.C. 139, which requires that environmental reviews for major projects occur within agency average of two years (from the date of publication of the NOI) to the date of issuance of the ROD. Per 23 U.S.C. 139(d)(10), permits and authorizations should be completed by no later than 90 days after the issuance of the ROD except when the head of the lead agency extends this deadline. Following the issuance of this notice, FHWA and VDOT will coordinate with the Cooperating, Cooperating/Concurring, and Participating Agencies to develop study documentation and the Draft EIS.

• The Draft EIS is anticipated to be issued in November 2026

• The combined Final EIS and ROD is anticipated in July 2027

• A Section 404 permit decision from the USACE is expected in September 2027

See the Additional Project Information Document for additional schedule details

A Description of the Public Scoping Process, Including any Scoping Meetings.

Agency Scoping: In April 2023, as part of initial NEPA scoping to determine the class of action, VDOT and FHWA identified agencies who would likely serve as Cooperating and Participating Agencies for the EIS. Beginning in May 2023, VDOT and FHWA briefed the likely Cooperating Agencies on the Project, followed by the dissemination of scoping letters to all potential Cooperating and Participating Agencies in October 2023, which invited agencies to participate in the development of the Project and request any input to support the identification of transportation needs as well as issues or concerns regarding social, economic, or natural resources within the study vicinity.

Agency coordination up to this point has been conducted primarily through VDOT's monthly NEPA Agency Coordination Meeting, to which FHWA and all likely Participating and Cooperating Agencies are invited. A brief summary of agency coordination and additional information on these meetings is available in the Additional Project Information Document.

In accordance with 23 U.S.C. 139, an Agency Coordination Plan is being developed and will be finalized within 90 days of the issuance of this NOI. The Agency Coordination Plan establishes a framework for coordination of the environmental review process among the Federal, State, and local agencies participating in the study as well as the general public.

Public Review: A 30-day comment period is being held in association with this NOI. Agencies and the public are invited to comment on the Environmental Analysis Methodologies, Purpose and Need, and Range of Alternatives for the proposed action. Comments may be submitted according to the instructions in the ADDRESSES section of this Notice. Interested persons can sign up to receive email announcements, notifications, and newsletters on the above Project website. The scoping process for this EIS will conclude at the end of the 30-day comment period after the publication of the NOI. During the 30-day comment period, VDOT will present information in the NOI and receive public comments. The public will also be able to submit comments by completing an online survey, email, telephone, and mail. VDOT will post public materials on the EIS website, including a brochure and narrated video presentation, in addition to contacting by mail local property owners.

Public hearings will be held during the study, as described below. Generally, the locations, dates, and times for each public hearing will be publicized through the EIS website https://www.vdot.virginia.gov/projects/richmond-district/chesterfield---powhite-parkway-study/ and in newspapers with local and regional circulation, expected to include the Richmond Times Dispatch and Legacy newspapers. Materials will be available at the meetings in English and Spanish and oral and written comments will be solicited.

Public Hearing on a Recommended Preferred Alternative: A public hearing on the Recommended Preferred Alternative (RPA) consistent with the provisions of the Code of Virginia will be conducted to inform the Virginia Commonwealth Transportation Board (CTB), which is authorized by the Code of Virginia to make location decisions for highway projects, including as part of NEPA studies.

Several outreach methods will be used to advertise the public hearing on the RPA, including but not limited to newspaper advertisements, postcards sent to each property within the study area, a social media campaign, email, and continued updates to the study website.

Public Hearing on the Draft EIS: Notice of availability of the Draft EIS for public and agency review will be published in the Federal Register and through other methods which will identify where interested parties can go to review a copy of the Draft EIS. The public hearing will be conducted by VDOT and announced a minimum of 30 days in advance. VDOT will provide information for the public hearing, including the location, date, and time for the meeting through a variety of means including the EIS website https://www.vdot.virginia.gov/projects/richmond-district/chesterfield---powhite-parkway-study/ and by newspaper advertisement.

A Request for Common on Alternatives and effects, as well as on Relevant Information, Studies, or Analyses with Respect to the Proposed Action: To ensure that a full range of issues related to the study are addressed in the EIS and all potential issues are identified, FHWA and VDOT invites comments and suggestions from all interested parties. FHWA and VDOT requests comments and suggestions on the purpose and need, potential alternatives and impacts, and the identification of any relevant information, studies, or analyses of any kind concerning impacts affecting the quality of the human and natural environment. Any information presented herein, including the preliminary purpose and need, preliminary range of alternatives and identification of impacts may be revised after consideration of the comments. The purpose of this request is to bring relevant comments, information, and analyses to FHWA's and VDOT's attention, as early in the process as possible, to enable the agencies to make maximum use of this information in decision making. Comments may be submitted according to the instructions in the ADDRESSES section of this Notice.

Contact Information for a Person Within the Agency Who Can Answer Questions About the Proposed Action and the Environmental Impact Statement:

FHWA: Amanda Heath, Environmental Protection Specialist, Federal Highway Administration—Virginia Division, 400 North 8th Street, Suite 650, Richmond, VA 23219-4825; email: Amanda.Heath@dot.gov; 804-775-3342.

VDOT: Heather Staton, NEPA Project Manager/Environmental Division, Virginia Department of Transportation, 1401 East Broad Street, Richmond, VA, 23219; email: Heather.Staton@vdot.virginia.gov; 804-980-5659.

Identification of Cooperating and Participating Agencies, and Information That Such Agencies Require in the Notice.

FHWA and VDOT have invited the following Federal, State, regional, and local agencies to participate in the development of the EIS. Beginning in October 2023, VDOT has convened Cooperating, Participating, and Other Involved Agencies at a monthly coordination meeting to discuss the development of the EIS, including the preliminary purpose and need, preliminary range of alternatives, and draft NOI and Additional Project Information Document. At the August 14, 2024, VDOT NEPA Programs Agency Coordination Meeting, VDOT described the NOI requirements and asked Cooperating and Participating Agencies for input. No agencies have requested information to be included in the NOI.

• Cooperating Agencies: U.S. Army Corps of Engineers, U.S. Environmental Protection Agency.

• Participating Agencies: U.S. Fish and Wildlife Service, Chesterfield County, Richmond Regional Transportation Planning Organization (PlanRVA), Virginia Department of Conservation and Recreation, Virginia Department of Health, Virginia Department of Rail and Public Transportation, and the Virginia State Police.

• Other Agencies Involved: Crater Planning District Commission, Natural Resources Conservation Service, U.S. Department of the Interior—Office of Environmental Policy & Compliance, U.S. Department of Housing and Urban Development, Virginia Department of Agriculture and Consumer Services, Virginia Department of Environmental Quality, Virginia Department of Forestry, Virginia Department of Virginia Management, and the Virginia Department of Wildlife Resources.

Unique Identification Number. All environmental documents prepared for the proposed action will reference the following unique identification number: EISX—XVA-1729510690.

(Catalog of Federal Domestic Assistance Program Number 20.205, Highway Planning and Construction. The regulations implementing Executive Order 12372 regarding intergovernmental consultation on Federal programs and activities apply to this program.)

Daniel Omar Suarez,
Acting Division Administrator, Federal Highway Administration.

[FR Doc. 2025-13001 Filed 7-10-25; 8:45 am]

BILLING CODE 4910-RY-P